ENVIRONMENTAL PROTECTION AGENCY

[FRL-6931-6]

Inventory of U.S. Greenhouse Gas Emissions and Sinks: 1990-1999

AGENCY: Environmental Protection Agency (EPA).

ACTION: Notice of document availability and request for comments.

SUMMARY: The Draft Inventory of U.S. Greenhouse Gas Emissions and Sinks: 1990-1999 is available for public review and comment. Annual U.S. emissions for the period of time from 1990-1999 are summarized and presented by source category and sector. The inventory contains estimates of carbon dioxide (CO2), methane (CH4), nitrous oxide (N2O), Hydrofluorocarbons (HFC), perfluorocarbons (PFC), and sulfur hexaflouride (SF6) emissions. The inventory also includes updated estimates of carbon sequestration in U.S. forests and soils. The technical approach used in this report to estimate greenhouse gas emissions from sources and removals by sinks is consistent with the methodologies recommended by the Intergovernmental Panel on Climate Change (IPCC). The Inventory of U.S. Greenhouse Gas Emissions and Sinks is the latest in a series of annual U.S. submissions to the Secretariat of the United Nations Framework Convention on Climate Change.

DATES: To ensure your comments are considered for the final version of this document, please submit your comments prior to February 20, 2001. However, comments received after that date will still be welcomed and will be considered for the next edition of this report.

ADDRESSES: Comments should be submitted to Mr. Wiley Barbour at: U.S. Environmental Protection Agency, Office of Atmospheric Programs, Market Policy Branch (MC: 2175), 1200 Pennsylvania Avenue NW., Washington, DC 20460, Fax : (202) 260-6405.

If you wish to send an email with your comments, you may send the email to barbour.wiley@epa.gov.

FOR FURTHER INFORMATION CONTACT: Mr. Wiley Barbour, Environmental Protection Agency, Office of Atmospheric Programs, (202) 260-6972.

SUPPLEMENTARY INFORMATION: You may view and download the document referenced above on the US EPA global warming site at http://www.epa.gov/globalwarming/publications/emissions/.

Dated: January 3, 2001.
Robert Perciasepe,
Assistant Administrator, Office of Air and Radiation.

[FR Doc. 01-567 Filed 1-8-01; 8:45 am]

BILLING CODE 6560-50-P